DEPARTMENT OF AGRICULTURE

Forest Service

Information Collection; Application for Permit for Use of Roads, Trails, or Areas Restricted by Regulation or Order

AGENCY: Forest Service, USDA.

ACTION: Notice; request for comment.

SUMMARY: In accordance with the Paperwork Reduction Act of 1995, the Forest Service is seeking comments on the revision of a currently approved information collection, form FS-7700-40, Application for Permit, Non-Federal Commercial Use of Roads Restricted by Order. The revised information collection is entitled, “Application for a Permit for Use of Roads, Trails, or Areas Restricted by Regulation or Order.” The Forest Service is also seeking comment on an associated new information collection, form FS-7700-NEW (form number to be determined), Permit for Use of Roads, Trails, or Areas Restricted by Regulation or Order, and renewal of an associated existing information collection, form FS-7700-41, Non-Federal Commercial Road Use Permit.

DATES: Comments must be received in writing by August 27, 2012 to be considered.

ADDRESSES: Comments concerning this notice should be addressed to USDA Forest Service, Director, Engineering Staff, RPC5, 1601 North Kent Street, Room 500, Arlington, VA 22209. Comments also may be submitted via facsimile to 703 605-1542 or by email to dhager@fs.fed.us.

The public may inspect comments received at the USDA Forest Service, Office of the Director of Engineering, 1601 North Kent Street, Room 500, Arlington, VA, during normal business hours. Visitors are encouraged to call ahead at 703 605-4962 to facilitate entry into the building.

FOR FURTHER INFORMATION CONTACT: Dan Hager, Engineering staff, 703 605-4612. Individuals who use telecommunication devices for the deaf may call the Federal Relay Service at 800 877-8339 twenty-four hours a day, every day of the year, including holidays.

SUPPLEMENTARY INFORMATION:

Title

Current: Application for Permit, Non-Federal Commercial Use of Roads Restricted by Order.

Revised: Application for a Permit for Use of Roads, Trails, or Areas Restricted by Regulation or Order.

OMB Number: 0596-0016.

Expiration Date of Approval: January 31, 2013.

Type of Request: Revision of a currently approved information collection, approval of an associated new information collection, and renewal of an associated existing information collection.

Abstract: Authority for permits for use of National Forest System (NFS) roads, NFS trails, and areas on NFS lands restricted by order or regulation derives from the National Forest Roads and Trails Act (16 U.S.C. 532-538). This statute authorizes the Secretary of Agriculture to promulgate regulations regarding use of NFS roads, NFS trails, and areas on NFS lands; establish procedures for sharing investments in NFS roads; and require commercial users to perform road maintenance commensurate with their use of NFS roads. Forest Service regulations implementing this authority are found in 36 CFR 212.5, 212.9, 212.51, 261.10, 261.12, 261.13, 261.54, and 261.55.

In particular, 36 CFR 212.5 and 212.9 authorize the Chief of the Forest Service to establish procedures for investment sharing and to require commercial users to perform maintenance commensurate with their road use. Section 261.10 contains a national prohibition against constructing or maintaining an NFS road or NFS trail without a written authorization. Section 212.12 contains a national prohibition against violating the load, weight, height, length, or width limitations of State law when using NFS roads without a written authorization. Section 212.13 contains a national prohibition against possessing or operating a motor vehicle on NFS roads, NFS trails, or areas on NFS lands that are not designated for motor vehicle use on a motor vehicle use map, unless the use is authorized by a written authorization. Section 261.54 authorizes issuance of an order prohibiting use of an NFS road in a manner prohibited by the order without a written authorization, including commercial hauling without a permit or written authorization when required by order. Section 261.55 authorizes issuance of an order prohibiting use of an NFS trail in a manner prohibited by the order without a written authorization.

Forest Service directives implementing the regulations are found in Forest Service Manual 2350, 7710, and 7730 and Forest Service Handbook 7709.59, chapter 20. These directives provide for the size and weight limits under State traffic law to apply on NFS roads and require the responsible official to designate NFS roads, NFS trails, and areas on NFS lands for motor vehicle use; enter into appropriate investment sharing arrangements, require commercial users of NFS roads to perform maintenance commensurate with their road use; and issue orders that implement the authority in 36 CFR 261.54. The permits road users obtain contain appropriate requirements for implementation of applicable regulations and directives.

Form FS-7700-40, Application for Permit for Use of Roads, Trails, or Areas Restricted by Regulation or Order. This form will be used by individuals and entities that apply for a permit to use NFS roads, NFS trails, or areas on NFS lands that are subject to a restriction established by regulation or order. Examples of restrictions requiring permits are motor vehicle use on NFS roads and NFS trails that are not designated for that purpose; operating trucks that exceed size limits established by State traffic law on NFS roads; area closures during periods of high fire danger; and non-Federal commercial use of NFS roads.

The following information is collected: (1) The applicant's name, address, and telephone number; (2) identification of the NFS roads, NFS trails, and areas on NFS lands proposed for use (NFS roads and NFS trails are identified by Forest Service route number, and areas on NFS lands are identified using a map); (3) purpose of use; and (4) the proposed use schedule. The applicant is asked to provide explanatory information specific to the proposed use, including information on the types and size of vehicles, through attachments and remarks. There are standard attachments available for use when the application requests oversize vehicle use or commercial use of roads. The application is submitted to the Forest Supervisor or District Ranger responsible for the NFS roads, NFS trails, or areas on NFS lands for which a permit is requested.

When applications for commercial use of roads restricted by order are received, the information is used to identify maintenance commensurate with the applicant's road use. The information is also used to calculate the proportion of acquisition, construction, and maintenance costs associated with the NFS roads proposed for use that is assignable to the applicant for purposes of investment sharing. When requests are for oversize vehicle use, the information is used to evaluate the structural capacity of bridges and potential adverse effects on the safety of other traffic on the roads proposed for use. When the application requests use of NFS roads, NFS trails, or areas on NFS lands that are not designated for motor vehicle use or are restricted by order, the information is used to decide whether and, if appropriate, when the use should be permitted. The information collected is not reported to or summarized at higher levels of the Forest Service.

The identifying information collected on form FS-7700-40, Application for Permit for Use of Roads, Trails, or Areas Restricted by Regulation or Order, is used on form FS-7700-41, Non-Federal Commercial Road Use Permit, and form FS-7700-NEW (form number to be determined), Permit for Use of Roads, Trails, or Areas Restricted by Regulation or Order, to identify the permit holder and the routes or areas requested for use. When form FS-7700-41 is issued, road maintenance requirements, road use schedules, and any necessary payments to be made in lieu of performance of maintenance developed from the data submitted on or with form FS-7700-40 are included in form FS-7700-41. When form FS-7700-NEW is issued, requirements resulting from data submitted with form FS-7700-40, such as requirements for signs and pilot cars when moving oversize vehicles, are included. A copy of form FS-7700-41 or form FS-7700-NEW must be carried in the holder's motor vehicle during use of the NFS roads, NFS trails, or areas on NFS lands covered by the permit.

Forms FS-7700-41, Non-Federal Commercial Road Use Permit, and FS-7700-NEW, Permit for Use of Roads, Trails, or Areas Restricted by Regulation or Order. Form FS-7700-41 has already been approved by the Office of Management and Budget (OMB). The Forest Service is seeking renewal of this approval. Form FS-7700-NEW is a new form. No information beyond that collected on form FS-7700-40 will be collected on forms FS-7700-41 and FS-7700-NEW.

Estimate of Annual Burden: 15 minutes per application.

Type of Respondents: All those who need to use NFS roads, NFS trails, or areas on NFS lands that are restricted by regulation or order.

Estimated Annual Number of Respondents: 20,000.

Estimated Annual Number of Responses per Respondent: One.

Estimated Total Annual Burden on Respondents: 5,000 hours.

Public Comment: Public comment is invited on (1) Whether this information collection is necessary for the stated purposes and the proper performance of the functions of the Agency, including whether the information will have practical or scientific utility; (2) the accuracy of the Agency's estimate of the burden of the information collection, including the validity of the methodology and assumptions used; (3) ways to enhance the quality, utility, and clarity of the information to be collected; and (4) ways to minimize the burden of the information collection on respondents, including the use of automated, electronic, mechanical, or other technological collection techniques or other forms of information technology.

All comments received in response to this notice, including names and addresses when provided, will be a matter of public record. Comments will be summarized and included in the request for OMB approval of the information collection.

Dated: June 18, 2012.
James M. Peña,
Associate Deputy Chief, National Forest System.

[FR Doc. 2012-15784 Filed 6-27-12; 8:45 am]

BILLING CODE 3410-11-P